DEPARTMENT OF DEFENSE

Office of the Secretary

[Transmittal No. 22-0U]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 22-0U.

Dated: September 9, 2024.
Aaron T. Siegel,
Alternate OSD Federal Register Liaison Officer, Department of Defense.

BILLING CODE 6001-FR-P

BILLING CODE 6001-FR-C

Transmittal No. 22-0U

REPORT OF ENHANCEMENT OR UPGRADE OF SENSITIVITY OF TECHNOLOGY OR CAPABILITY (SEC. 36(B)(5)(C), AECA)

(i) Purchaser: Government of Poland

(ii) Sec. 36(b)(1), AECA Transmittal No.: 11-54

Date: February 2, 2012

Implementing Agency: Air Force

Funding Source: Foreign Military Financing (FMF)

(iii) Description: On February 2, 2012, Congress was notified by Congressional certification transmittal number 11-54, of the possible sale, under Section 36(b)(l) of the Arms Export Control Act, of 93 AIM-9X-2 SIDEWINDER Block II Tactical Missiles, 4 CATM-9X-2 Captive Air Training Missiles, 65 AIM-120C-7 Advanced Medium Range Air-to-Air Missiles, 42 GBU-49 Enhanced PAVEWAY II 500 lb Bombs, 200 GBU-54 (2000 lb) Laser Joint Direct Attack Munitions (JDAM) Bombs, 642 BLU-111 (500 lb) General Purpose Bombs, 127 MK-82 (500 lb) General Purpose Bombs, 80 BLU-117 (2000 lb) General Purpose Bombs, 4 MK-84 (2000 lb) Inert General Purpose Bombs, 9 F-100-PW-229 Engine Core Modules, 28 Night Vision Devices plus 6 spare intensifier tubes, 12 Autonomous Air Combat Maneuvering Instrumentation P5 pods, a Joint Mission Planning System, and five years of follow-on support and sustainment services for Poland's F-16 fleet, spare and repair parts, support and test equipment, publications and technical documentation, system overhauls and upgrades, personnel training and training equipment, U.S. Government and contractor technical support, and other related elements of program support. The estimated total cost was $447 million. Major Defense Equipment (MDE) constituted $219 million of this total.

On April 9, 2019, Congress was notified by Congressional certification transmittal number 19-0F, of an additional twenty-seven (27) AIM-9X-2 Sidewinder Block II Tactical Missiles and eighteen (18) AIM-9X-2 Captive Air Training Missiles (CATM). This notification also included twelve (12) AIM-9X Tactical Guidance Units and six (6) AIM-9X CATM Guidance Units. These changes increased the MDE value by $35 million, for a revised MDE value of $254 million. The total case value increased to $482 million.

This transmittal notifies the addition of the following MDE items: seven (7) F-16 F-100-PW-229 engines. The following non-MDE items are also included: additional follow-on support and sustainment services.

The estimated total value of the additional items is $86 million, increasing the total MDE value to $340 million. The total non-MDE value will remain $228 million. The revised estimated total case value will increase to $568 million.

(iv) Significance: The proposed sale will address Poland's urgent requirement for replacement F-16 engines, directly impacting combat readiness of its F-16 fleet. Continued and uninterrupted operation of their F-16 fleet enables Poland to deter current and future threats and further NATO interoperability targets.

(v) Justification: This proposed sale will support the foreign policy and national security of the United States by improving the security of a NATO ally and partner nation, which is an important force for peace, political stability, and economic progress in Eastern Europe.

(vi) Sensitivity of Technology: The Sensitivity of Technology Statement contained in the original notification applies to additional items reported here.

(vii) Date Report Delivered to Congress: November 21, 2022.

[FR Doc. 2024-20723 Filed 9-11-24; 8:45 am]

BILLING CODE 6001-FR-P